DEPARTMENT OF COMMERCE

National Oceanic and Atmospheric Administration

Establishment of the Marine and Coastal Area-Based Management Advisory Committee and Solicitation of Nominations for Membership

AGENCY: National Oceanic and Atmospheric Administration (NOAA), Department of Commerce (DOC).

ACTION: Notice of establishment of the Marine and Coastal Area-based Management Advisory Committee and solicitation of nominations for membership.

SUMMARY: Pursuant to the Federal Advisory Committee Act, the Under Secretary of Commerce for Oceans and Atmosphere (Under Secretary) announces the establishment of the Marine and Coastal Area-based Management Advisory Committee (MCAM AC). The MCAM AC shall advise the Under Secretary on science-based approaches to area-based protection, conservation, restoration, and management in coastal and marine areas, including the Great Lakes. The scope of the Committee's advice will include, but not be limited to, efforts consistent with the America the Beautiful initiative, as well as other relevant issues that may be requested by the Under Secretary. The MCAM AC shall terminate 2 years from the date of its charter's filing with the appropriate U.S. Senate and House of Representatives committees unless earlier terminated or renewed by the proper authority. This notice also requests nominations for membership on the MCAM AC (see “Structure” and “Nominations and Applications” below for more detail).

DATES: Nominations and applications to serve on the inaugural membership of the MCAM AC should be sent to the web address specified below and must be received on or before January 17, 2023. Nominations and applications will continue to be accepted on an ongoing basis for a period of 1 year and may be considered in case of vacancies.

ADDRESSES: Nominations and applications should be submitted electronically to Lauren Wenzel, National Ocean Service, NOAA, at lauren.wenzel@noaa.gov.

FOR FURTHER INFORMATION CONTACT: Lauren Wenzel, National Ocean Service, NOAA, at lauren.wenzel@noaa.gov or (240) 533-0652. For additional information, visit noaa.gov/marine-area-based-management-committee.

SUPPLEMENTARY INFORMATION:

I. Background and Authority

The MCAM AC is governed by the FACA, 5 U.S.C. app., and its implementing regulations, 41 CFR part 102-3, which sets forth standards for the formation and use of advisory committees.

The establishment of the MCAM AC is necessary and in the public interest. The Committee would provide a forum for discussion to advise NOAA on area-based management, including opportunities to enhance conservation of biodiversity, promote climate resilience, and expand access to nature for underserved communities. The scope of the Committee's advice will include, but not be limited to, efforts consistent with the America the Beautiful/Conserving Our Nation's Lands and Waters initiative called for by section 216(a) of Executive Order 14008 on Tackling the Climate Crisis at Home and Abroad, as well as other relevant issues that may be requested by the Under Secretary. No other Federal program or advisory committee has the mandate or scope to address all types of area-based management, including sites that are managed under different authorities and for differing purposes.

II. Structure

The MCAM AC shall consist of not more than 20 non-Federal voting members with diverse perspectives and expertise. Membership shall include knowledgeable individuals that serve in a representative capacity for such perspectives as: resource managers for coastal and marine areas and the Great Lakes (such as representatives from states, territories, and localities and members of regional fishery management councils, members of regional ocean councils, and interstate fisheries commissions); Indigenous communities involved in coastal and ocean resource issues, including representatives from Indian tribes, Alaska Native corporations, Alaska Native organizations, tribal organizations, and Native Hawaiian organizations; conservation, philanthropic, and other non-governmental organizations involved in coastal and ocean resource issues, as well as youth-serving organizations, education and outreach interests, and environmental justice organizations; and affected interest groups, such as representatives from the offshore minerals, energy, marine transportation, fishing (recreational and commercial), boating, diving, recreational, tourism, and maritime communities. These representative members serve as representatives of their respective group or viewpoint and are not Special Government Employees (SGEs) as defined in title 18 of United States Code, section 202(a).

Membership on the Committee shall also include scientists and other experts in disciplines that study the structure, function, human use, and management of coastal and ocean ecosystems, such as ecologists, oceanographers, fisheries scientists, geologists, economists, engineers, anthropologists, archeologists, maritime historians, sociologists, educators, and others. Members appointed for their expertise in the scientific or other disciplines identified here will be designated as SGEs and are subject to conflict of interests laws and regulations (such as annually completing ethics training and a New Entrant Confidential Financial Disclosure Report (OGE Form 450)).

Members of the MCAM AC will be appointed by the Under Secretary. In order to provide for staggered membership to ensure continuity, half of the members shall be appointed to a 2 year term and half shall be appointed to a four-year term, as selected by the Under Secretary. Thereafter, all members will serve one 4 year, nonrenewable term. The Under Secretary shall appoint a chair and vice chair from among the Committee members. An appointment may be terminated if a member misses two consecutive meetings, unless excused for good cause by the chair or vice chair. In addition to the Department of Commerce, one official from each of the following Federal departments and agencies may serve on the Committee as Regular Government Employee non-voting members: the Department of the Interior, the Department of Defense, the Department of State, the Department of Homeland Security, the Environmental Protection Agency, the Department of Agriculture, and the National Science Foundation. Such membership may be granted to other pertinent Federal agencies by the Under Secretary.

The MCAM AC is expected to meet at least once each year, which may be conducted in person or by teleconference, webinar, or other means. Members will not be compensated for their services but may, upon request and at the discretion of NOAA, be allowed travel and per diem expenses as allowed by 5 U.S.C. 5701 et seq. and 5 U.S.C. app., section 7(d)(l)(B). As a Federal advisory committee, the MCAM AC's membership is required to be balanced in terms of perspectives and expertise for the functions to be performed, and appointments shall be made without discrimination on the basis of age, race, ethnicity, gender, sexual orientation, disability, or cultural, religious, or socioeconomic status. NOAA will consider geographic diversity, leadership on marine management/conservation issues, and experience working with committees and workgroups (e.g., fishery management councils, sanctuary advisory councils, and, where possible, NOAA will also consider the ethnic, racial, gender, and various abilities of the United States population.

III. Nominations and Applications

Interested persons may nominate themselves or third parties. An application is required to be considered for MCAM AC membership, regardless of whether a person is nominated by a third party or self-nominated. The application package must include: (1) the nominee's full name, title, institutional affiliation (if any), and contact information; (2) identification of the nominee's area(s) of representation (if the nominee is applying to be a representative member as described above) or expertise (if the nominee is applying to be an SGE as described above); (3) a short description of their qualifications relative to the scope of the MCAM AC as described in this Notice; and (4) a current resume (maximum length four [4] pages). If nominated by a third party, the nomination should include a statement that the nominated individual agrees to be nominated. All nomination information should be provided in a single, complete package, and should be sent to the electronic address provided above.

Privacy Act Statement

Authority. The collection of information concerning nominations to the MCAM AC is authorized under the FACA, 5 U.S.C. app. and its implementing regulations, 41 CFR part 102-3, and in accordance with the Privacy Act of 1974, as amended, (Privacy Act) 5 U.S.C. 552a.

Purpose. The collection of names, contact information, resumes, professional information, and qualifications is required in order for the Under Secretary to appoint members to the MCAM AC.

Routine Uses. NOAA will use the nomination information for the purpose set forth above. The Privacy Act of 1974 authorizes disclosure of the information collected to NOAA staff for work-related purposes and for other purposes only as set forth in the Privacy Act and for routine uses published in the Privacy Act System of Records Notice COMMERCE/DEPT-11, Candidates for Membership, Members, and Former Members of Department of Commerce Advisory Committees, available at https://www.osec.doc.gov/opog/PrivacyAct/SORNs/dept-11.html, and the System of Records Notice COMMERCE/DEPT-18, Employees Personnel Files Not Covered by Notices of Other Agencies, available at https://www.osec.doc.gov/opog/PrivacyAct/SORNs/DEPT-18.html.

Disclosure. Furnishing the nomination information is voluntary; however, if the information is not provided, the individual would not be considered for appointment as a member of the MCAM AC.

Dated: November 9, 2022.
Richard W. Spinrad,
Under Secretary of Commerce for Oceans and Atmosphere and NOAA Administrator.

[FR Doc. 2022-24940 Filed 11-16-22; 8:45 am]

BILLING CODE 3510-NK-P